DEPARTMENT OF LABOR

Employment and Training Administration

[TA-W-36,893]

Chemall, Inc., Calabrian Chemical Corporation, CuC1 Department, Port Neches, Texas; Amended Certification Regarding Eligibility To Apply for Worker Adjustment Assistance

In accordance with Section 223 of the Trade Act of 1974 (19 U.S.C. 2273) the U.S. Department of Labor issued a Certification of Eligibility to Apply for Worker Adjustment Assistance on December 22, 1999 applicable to workers of Calabrian Chemical Corporation, CuC1 Department, Port Neches, Texas. The notice was published in the Federal Register on January 14, 2000 (FR 65 2432).

At the request of the State agency, the Department reviewed the certification for workers of the subject firm. The workers were engaged in the production of Cuprous Chloride (CuC1). New information provided by the State shows that Chemall, Inc., Kingwood, Texas is the parent firm of Calabrian Chemical Company, located in Port Neches, Texas. New information also shows that workers separated from employment at the subject firm had their wages reported under a separate unemployment insurance (UI) tax account at Chemall, Inc., Kingwood, Texas.

Accordingly, the Department is amending the certification to properly reflect this matter.

The intent of the Department's certification is to include all workers of Calabrian Chemical Corporation, CuC1 Department who were adversely affected by increased imports of Cuprous Chloride (CuC1).

The amended notice applicable to TA-W-36,893 is hereby issued as follows:

All workers of the CuC1 Department engaged in employment related to the production of Cuprous Chloride (CuC1) at Chemall, Inc., Calabrian Chemical Corporation, Port Neches, Texas who became totally or partially separated from employment on or after September 20, 1998 through December 22, 2001 are eligible to apply for adjustment assistance under section 223 of the Trade Act of 1974.

Signed at Washington, DC this 31st day of May, 2000.
Grant D. Beale,
Program Manager, Office of Trade Adjustment Assistance.

[FR Doc. 00-14470 Filed 6-7-00; 8:45 am]

BILLING CODE 4510-30-M